DEPARTMENT OF TRANSPORTATION

Federal Transit Administration

Limitation on Claims Against Proposed Public Transportation Project—Valley Link Rail Project: Dublin/Pleasanton to Mountain House Community, California

AGENCY: Federal Transit Administration (FTA), Department of Transportation (DOT).

ACTION: Notice.

SUMMARY: This notice announces final environmental actions taken by the Federal Transit Administration (FTA) regarding the Valley Link Rail Project, which travels through the Cities of Dublin, Pleasanton, Livermore, and Mountain House in Alameda and San Joaquin Counties, California. The purpose of this notice is to publicly announce FTA's environmental decisions on the subject project, and to activate the limitation on any claims that may challenge these final environmental actions.

DATES: A claim seeking judicial review of FTA actions announced herein for the listed public transportation project will be barred unless the claim is filed on or before December 15, 2025.

FOR FURTHER INFORMATION CONTACT: Kathryn Loster, Assistant Chief Counsel, Office of Chief Counsel, (202) 360-2322, or Saadat Khan, Environmental Protection Specialist, Office of Environmental Policy and Programs, (202) 366-9647. FTA is located at 1200 New Jersey Avenue SE, Washington, DC 20590. Office hours are from 9:00 a.m. to 5:00 p.m., Monday through Friday, except Federal holidays.

SUPPLEMENTARY INFORMATION: Notice is hereby given that FTA has taken final agency actions subject to 23 U.S.C. 139(l) by issuing certain approvals for the public transportation project listed below. The actions on the project, as well as the laws under which such actions were taken, are described in the documentation issued in connection with the project to comply with the National Environmental Policy Act (NEPA) and in other documents in the FTA environmental project files for the project. Interested parties may contact either the project sponsor or the relevant FTA Regional Office for more information. Contact information for FTA's Regional Offices may be found at https://www.transit.dot.gov/about/regional-offices/regional-offices.

This notice applies to all FTA decisions on the listed project as of the issuance date of this notice and all laws under which such actions were taken, including, but not limited to, NEPA (42 U.S.C. 4321-4375), Section 4(f) requirements (49 U.S.C. 303), Section 106 of the National Historic Preservation Act (54 U.S.C. 306108), Endangered Species Act (16 U.S.C. 1531), Clean Water Act (33 U.S.C. 1251), the Uniform Relocation and Real Property Acquisition Policies Act (42 U.S.C. 4601), and the Clean Air Act (42 U.S.C. 7401-7671q). This notice does not, however, alter or extend the limitation period for challenges of project decisions subject to previous notices published in the Federal Register. The project modifications and actions that are the subject of this notice follow:

Project name and location: Valley Link Rail Project: Dublin/Pleasanton to Mountain House Community (Project), Cities of Dublin, Pleasanton, Livermore, and Mountain House, Alameda and San Joaquin Counties, California.

Project Sponsor: Tri-Valley—San Joaquin Valley Regional Rail Authority.

Project description: The Project would construct a new passenger rail service along a 22-mile corridor in Northern California between the existing Dublin/Pleasanton Bay Area Rapid Transit (BART) Station in Alameda County and the proposed Mountain House Community Station in San Joaquin County to provide a transit option along Interstate 580. The Project also includes construction of four stations, three operation and maintenance facilities, and associated infrastructure improvements (e.g., platforms with shade canopies, parking lots, pedestrian bridges).

Final agency action: Section 106 No Adverse Effect determination, dated April 16, 2025; and Finding of No Significant Impact (FONSI) for the Valley Link Rail Project, dated May 27, 2025.

Supporting documentation: The Valley Link Rail Project Environmental Assessment (EA), dated December 10, 2024. The Project FONSI, EA and associated documents can be viewed and downloaded from: https://www.getvalleylinked.com/.

Authority: 23 U.S.C. 139(l)(1).

Megan Blum,
Deputy Associate Administrator for Planning and Environment.

[FR Doc. 2025-13459 Filed 7-16-25; 8:45 am]

BILLING CODE 4910-57-P